DEPARTMENT OF COMMERCE

National Oceanic and Atmospheric Administration

RIN 0648-XF278

Pacific Fishery Management Council; Public Meetings

AGENCY: National Marine Fisheries Service (NMFS), National Oceanic and Atmospheric Administration (NOAA), Commerce.

ACTION: Notice of public meetings.

SUMMARY: The Pacific Fishery Management Council (Pacific Council) will convene three Stock Assessment Review (STAR) panels this year to review new stock assessments for lingcod, Pacific ocean perch, yelloweye rockfish, yellowtail rockfish, blue rockfish, deacon rockfish, and California scorpionfish. These STAR panel meetings are open to the public. The STAR panel meetings will also be streamed online for those who want to follow the proceedings remotely.

DATES: The STAR panel meeting to review new assessments for lingcod and Pacific ocean perch (STAR Panel 1) will be held Monday, June 26, 2017, from 8:30 a.m. until 5:30 p.m. (Pacific Standard Time) or when business for the day has been completed. The panel will reconvene on Tuesday, June 27 and will continue through Friday, June 30, 2017 beginning at 8:30 a.m. and ending at 5:30 p.m. each day, or when business for the day has been completed.

The STAR panel meeting to review new assessments for yelloweye rockfish and yellowtail rockfish (STAR Panel 2) will be held Monday, July 10, 2017, from 8:30 a.m. until 5:30 p.m. (Pacific Standard Time) or when business for the day has been completed. The panel will reconvene on Tuesday, July 11 and will continue through Friday, July 14, 2017 beginning at 8:30 a.m. and ending at 5:30 p.m. each day, or when business for the day has been completed.

The STAR panel meeting to review new assessments for blue rockfish, deacon rockfish (it is anticipated this will be a single assessment of blue and deacon rockfish in combination), and California scorpionfish (STAR Panel 3) will be held Monday, July 24, 2017, from 8:30 a.m. until 5:30 p.m. (Pacific Standard Time) or when business for the day has been completed. The panel will reconvene on Tuesday, July 25 and will continue through Friday, July 28, 2017 beginning at 8:30 a.m. and ending at 5:30 p.m. each day, or when business for the day has been completed.

ADDRESSES: STAR Panel 1 and STAR Panel 2 will be held in the Auditorium at the NMFS, Northwest Fisheries Science Center, 2725 Montlake Boulevard E, Seattle, WA 98112; telephone: (206) 860-3200. STAR Panel 3 will be held at the NMFS, Southwest Fisheries Science Center, Santa Cruz Laboratory, 110 McAllister Way, Santa Cruz, CA 95060; telephone: (831) 420-3900.

To attend the webinar, visit: http://www.gotomeeting.com/online/webinar/join-webinar. Enter the Webinar ID, which is 782-299-523, and your name and email address (required). After logging into the webinar, dial the TOLL number (not a toll-free number) which will be provided to you after the webinar is launched; you must use your telephone for the audio portion of the meeting. Then enter the Attendee phone audio access code: 432-847-759, then enter your audio phone pin (shown after joining the webinar). Note: We have disabled Mic/Speakers on GoToMeeting as an option and require all participants to use a telephone or cell phone to participate. The GotoMeeting broadcast is not a substitute for attending the STAR panel meetings in person. You will not be able to communicate with others or offer public comment using the webinar connection. We strive to make this service fully available, but due to unforeseen technical issues (internet/power outages, GoToMeeting service issues, etc.), this service may not be available during portions of the STAR panel meetings.

Council address: Pacific Fishery Management Council, 7700 NE Ambassador Place, Suite 101, Portland, OR 97220.

FOR FURTHER INFORMATION CONTACT: Ms. Stacey Miller, NMFS Northwest Fisheries Science Center; telephone: (541) 867-0535; or Mr. John DeVore, Staff Officer, Pacific Fishery Management Council; telephone: (503) 820-2280.

SUPPLEMENTARY INFORMATION: The purpose of the STAR Panels is to review draft 2017 stock assessment documents and any other pertinent information for new benchmark stock assessments for lingcod, Pacific ocean perch, yelloweye rockfish, yellowtail rockfish, blue rockfish, deacon rockfish, and California scorpionfish; work with the Stock Assessment Teams to make necessary revisions; and produce STAR Panel reports for use by the Pacific Council family and other interested persons for developing management recommendations for fisheries in 2019 and beyond. No management actions will be decided by the STAR Panels. The STAR Panel participants' role will be development of recommendations and reports for consideration by the Pacific Council at its September meeting in Boise, ID.

Although nonemergency issues not contained in the meeting agendas may be discussed, those issues may not be the subject of formal action during these meetings. Action will be restricted to those issues specifically listed in this notice and any issues arising after publication of this notice that require emergency action under Section 305(c) of the Magnuson-Stevens Fishery Conservation and Management Act, provided the public has been notified of the intent of the STAR panels to take final action to address the emergency.

Visitors who are foreign nationals (defined as a person who is not a citizen or national of the United States) will require additional security clearance to access the NMFS Northwest Fisheries Science Center. Foreign national visitors should contact Ms. Stacey Miller at 541-867-0535 at least two weeks prior to the meeting date to initiate the security clearance process.

Technical Information and System Requirements

PC-based attendees: Windows® 7, Vista, or XP operating system required. Mac®-based attendees: Mac OS® X 10.5 or newer required. Mobile attendees: iPhone®, iPad®, Android™ phone or Android tablet required (use GoToMeeting Webinar Apps).

Special Accommodations

These meetings are physically accessible to people with disabilities. Requests for sign language interpretation or other auxiliary aids should be directed to Mr. Kris Kleinschmidt (503) 820-2280 at least 10 days prior to the meeting date.

Dated: June 12, 2017.
Tracey L. Thompson,
Acting Deputy Director, Office of Sustainable Fisheries, National Marine Fisheries Service.

[FR Doc. 2017-12429 Filed 6-14-17; 8:45 am]

BILLING CODE 3510-22-P